ENVIRONMENTAL PROTECTION AGENCY

[OW-2004-0035, FRL-7932-5]

Agency Information Collection Activities: Proposed Collection; Comment Request; Technical Survey: Drinking Water Treatment Facilities, EPA ICR Number 2176.01

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before September 6, 2005.

ADDRESSES: Submit your comments, referencing docket ID number OW-2004-0035, to EPA online using EDOCKET (our preferred method), by email to OW-Docket@epa.gov, or by mail to: EPA Docket Center, Environmental Protection Agency, Water Docket (Mail Code 4101T), 1200 Pennsylvania Ave., NW., Washington, DC 20460.

FOR FURTHER INFORMATION CONTACT: Mr. M. Ahmar Siddiqui, Environmental Protection Agency, 1200 Pennsylvania Ave., NW., Washington, DC 20460; telephone number: (202) 566-1044; fax number: (202) 566-1053; email address: siddiqui.ahmar@epa.gov

SUPPLEMENTARY INFORMATION: EPA has established a public docket for this ICR under Docket ID number OW-2004-0035, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are drinking water treatment facilities that serve populations of 10,000 or greater.

Title: Technical Survey: Drinking Water Treatment Facilities (Year 2004).

Abstract: The Clean Water Act (CWA) directs EPA to develop national industrial technology-based regulations to limit the amount of pollutants that are discharged to surface waters (usually called “effluent guidelines”) or to sewage treatment plants (called “pretreatment standards”). Pretreatment standards ensure that pollutants do not pass through or interfere with the safe and effective operations of these treatment plants. The CWA also directs EPA to develop national industrial technology-based regulations, called “new source performance standards,” for new facilities. Finally, the CWA requires the EPA to identify currently unregulated industries which may be discharging more than trivial amounts of toxic or “nonconventional” pollutants, such as nutrients. For these newly identified industries, EPA must complete effluent guidelines within three years.

EPA is collecting information from drinking water treatment facilities to determine if effluent guidelines or pretreatment standards are required to control the discharge of toxic and non-conventional pollutants into surface waters of the United States and to publicly owned treatment works (POTWs). EPA recently published the 2004 Effluent Guidelines Program Plan (September 2, 2004; 69 FR 53705) in accordance with the provisions of section 304(m) of the CWA and identified the “drinking water treatment point source category” as a candidate for rulemaking on the three-year schedule referred to earlier.

In preparation for publication of a notice of proposed rulemaking, planned for August 2006 and to be followed by final rulemaking in August 2007, EPA is conducting several data collection activities. The draft technical survey announced in this Federal Register notice will provide EPA with preliminary, technical, and environmental data needed to quantify any adverse environmental impacts of the discharges of residuals and metals from drinking water treatment facilities, evaluate the effectiveness of treatment technologies, and determine the incremental pollutant removals and compliance costs for various residual management options that EPA might consider for the proposed rule. The collected data will include information about finished water production, current residuals generation and management techniques, and characterization information for source waters and wastewaters.

The technical survey is composed of two phases: a screener questionnaire and a detailed questionnaire. EPA is distributing the screener questionnaire in order to collect basic information from facilities that serve populations greater than 10,000. EPA will use data from the initial screener to better identify and define the target population that generates residuals as a result of water treatment. This information will then be used to select the facilities to receive a detailed questionnaire in the second phase. The detailed questionnaire will be distributed to a sample of the respondents to the screener questionnaire and will collect substantially more detailed information about the industry. The screener questionnaire will be mailed after OMB approves the ICR, with the detailed questionnaire being mailed after an analysis of the responses to the screener.

The survey will be administered under authority of section 308 of the CWA, 33 U.S.C. 1318. As a result, all recipients of either questionnaire will be required to complete and return the questionnaire to EPA. An agency may not conduct or sponsor, and a person is not required to respond to, a collection of information unless it displays a currently valid OMB control number. The OMB control numbers for EPA's regulations in 40 CFR are listed in 40 CFR part 9. The ICR that EPA intends to submit to OMB will include a discussion of the comments on the proposed survey that EPA has received as a result of today's announcement.

The EPA would like to solicit comments on all aspects of the survey and to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The EPA burden estimate is based on the number of facilities receiving each of the two questionnaires. The Agency intends to distribute the screener to all facilities serving more than 50,000 people, plus a sample of those serving between 10,000 and 50,000 people. The EPA burden estimate is presented in Table 1.

Table 1.—Estimated Burden for Drinking Water Treatment Facilities To Complete Technical Survey
Survey type | Number of recipients | Estimated burden hours per recipient | Total burden
Screener Questionnaire | 1,253 | 7 | 8,771
Detailed Questionaire | 225 | 48 | 10,800
Total Burden |  |  | 19,571

Dated: June 13, 2005.
Ephraim S. King,
Director, Office of Science and Technology.

[FR Doc. 05-13167 Filed 7-1-05; 8:45 am]

BILLING CODE 6560-50-P